POSTAL REGULATORY COMMISSION

[Docket No. C2023-6; Presiding Officer's Ruling No. 2]

Service Standard Changes

AGENCY: Postal Regulatory Commission.

ACTION: Notice.

SUMMARY: The Commission is providing notice that a hearing and certain procedural events have been scheduled in this proceeding. This notice informs the public of the procedural schedule.

DATES: Notices of intervention are due: November 13, 2023; Prehearing Videoconference: December 4, 2023, at 1:00 p.m., Eastern Daylight Time, Virtual.

ADDRESSES: Submit notices of intervention electronically via the Commission's Filing Online system at https://www.prc.gov. Persons interested in intervening who cannot submit their views electronically should contact the person identified in the FOR FURTHER INFORMATION CONTACT David A. Trissell, General Counsel, at 202-789-6820. For additional information, Presiding Officer's Ruling No. 2 can be accessed electronically through the Commission's website at https://www.prc.gov.

FOR FURTHER INFORMATION CONTACT: David A. Trissell, General Counsel, at 202-789-6820.

SUPPLEMENTARY INFORMATION:

I. Procedural Schedule

II. Additional Case Management Procedures

III. Ruling

I. Procedural Schedule

Intervention. The deadline to file a notice of intervention pursuant to 39 CFR 3010.142 is November 13, 2023.

Discovery. Pursuant to Order No. 6688, the Presiding Officer shall conduct limited discovery for the purpose of determining disputed issues of fact in this case.¹

¹ Order Partially Denying United States Postal Service's Motion to Dismiss and Notice of Limited Formal Proceedings, September 18, 2023, at 8 (Order No. 6688).

At the prehearing videoconference conducted on October 30, 2023, the parties agreed that the discovery process should go forward notwithstanding Complainant's two motions pending before the Commission.² After further discussion at the videoconference, Complainant indicated that he would file a notice on the Commission's docket withdrawing his motion for summary judgment without prejudice to refiling once the discovery process has been completed. Should the Commission grant the motion for reconsideration or otherwise expand the scope of the issues, the Presiding Officer will take appropriate action.

² See Motion to Reconsider Order No. 6688, October 20, 2023; Motion for Oral Argument and Summary Judgment, October 30, 2023.

The parties may request that the Presiding Officer obtain specific discovery, but may not independently propound discovery on each other. Order No. 6688 at 8. The parties shall email their initial information requests, encompassing both of the disputed issues of fact, to the Presiding Officer (and cc'ing the other party) no later than Monday, November 6, 2023, at 4:30 p.m.³ The parties should attach their requests to the email in Microsoft Word format. These proposed information requests need not be filed on the Commission's public docket. Failure to submit an initial information request by the deadline without good cause may result in waiver of the party's right to request discovery in this case.

³ All times in this Ruling are Eastern Time.

The Presiding Officer will serve information requests by filing them on the Commission's public docket. Answers to information requests, as well as any objections or claims of privilege, are due by the date and time specified in each information request. Although the Presiding Officer will initially review the proposed information requests and reserves the right to revise or reject any proposed questions on grounds such as relevance, the Presiding Officer's issuance of an information request should not be construed as considering or rejecting any objections or claims of privilege that could conceivably be raised. Procedures for raising good faith objections or claims of privilege, if any, will be set out in the Presiding Officer's information request.

Responses to information requests may be transmitted via email, with the Presiding Officer cc'ed, by the date and time due. Unless otherwise indicated, responses to discovery requests need not be filed on the Commission's public docket.

Further information requests submitted by the parties will be considered by the Presiding Officer only after the parties have submitted their responses to the initial information requests. Pursuant to 39 CFR 3010.170, the Presiding Officer may issue information requests on his own initiative, either independently or along with requests submitted by the parties. The parties are advised, however, that issuance of additional information requests will be considered on a case-by-case basis and is not guaranteed, particularly if the party could have requested the information sought in its initial information request.

Prehearing videoconference. A prehearing videoconference is scheduled to be conducted before the Presiding Officer on December 4, 2023, at 1:00 p.m. Among other things, this videoconference will discuss procedures for the presentation of evidence and legal arguments, the need for any additional information requests, as well as the resolution of any pending discovery-related disputes. Additional prehearing conferences may be scheduled as needed.

Presentation of evidence. The issue of whether the hearing will involve the presentation of oral versus written testimony (including whether it may be appropriate to supplement written testimony with oral testimony for certain witnesses on particular issues in dispute) will be addressed more fully at the December 4, 2023, prehearing videoconference.

Hearing. The date on which the hearing of evidence shall begin will be addressed at the December 4, 2023, prehearing teleconference.

II. Additional Case Management Procedures

Good faith effort to confer. A good faith effort to confer with the opposing party requires at least the placing of one telephone call or the transmittal of one email message to the opposing party or its counsel.

Discovery motions. The parties must make a good faith effort to confer with the opposing party to attempt to resolve any discovery dispute before filing any motions related to discovery. The Presiding Officer will not entertain a motion to compel discovery, motion for sanctions, motion for protective order, or any other discovery motions until this good faith effort has been made. If this good faith effort is unsuccessful, the motion shall (1) state that a good faith effort has been made to resolve the dispute, (2) attach each disputed discovery request, answer, and objection (if applicable), (3) provide available dates and times for a hearing to be conducted by videoconference, and (4) concisely state the relief sought, the basis therefor, and the authority relied upon. Any party opposing the motion shall file a response no later than 7 days after the motion is filed. See 39 CFR 3010.160(b). No replies shall be permitted without express authorization of the Presiding Officer. See 39 CFR 3010.160(c). Failure to file a timely response may result in the motion being deemed unopposed. The Presiding Officer may decide the dispute based on the motion and any response, set a hearing to be conducted by videoconference, or order further briefing.

Extension of time or continuance. If either party seeks an extension of time or continuance, they must make a good faith effort to confer with the opposing party to determine a proposed mutually agreeable date before filing a motion. The motion must be filed before the specific deadline expires and shall state whether the other party opposes the motion. Extensions of time or continuances will only be granted for good cause shown.

Waiver or modification. If either party seeks to waive or modify the terms of any Presiding Officer's Ruling, the party must make a good faith effort to confer with the opposing party to determine a proposed mutually agreeable resolution before filing a motion. The Presiding Officer may waive or modify the terms of his order for good cause shown.

Oral argument. If either party requests to present oral argument before the Presiding Officer relating to any motion or brief, the party shall include “ORAL ARGUMENT REQUESTED” in the caption or title on page 1 of the applicable motion, response, or brief.

III. Ruling

1. The deadline to file a notice of intervention pursuant to 39 CFR 3010.142 is November 13, 2023.

2. A prehearing videoconference will be conducted before the Presiding Officer on December 4, 2023, at 1:00 p.m.

3. The parties and counsel shall follow the procedural schedule and case management procedures established by this Presiding Officer's Ruling.

4. The Secretary shall arrange for publication of the deadline to file a notice of intervention and the date of the prehearing videoconference in the Federal Register.

Erica A. Barker,
Secretary.

[FR Doc. 2023-24380 Filed 11-3-23; 8:45 am]

BILLING CODE 7710-FW-P